DEPARTMENT OF ENERGY

Federal Energy Regulatory Commission

Combined Notice of Filings #1

May 25, 2010.

Take notice that the Commission received the following electric corporate filings:

Docket Numbers: EC10-73-000.

Applicants: KGEN Sandersville LLC.

Description: Application for Authorization for Disposition of Jurisdictional Facilities and Request for Expedited Action of KGen Sandersville LLC.

Filed Date: 05/24/2010.

Accession Number: 20100524-5078.

Comment Date: 5 p.m. Eastern Time on Monday, June 14, 2010.

Take notice that the Commission received the following electric rate filings:

Docket Numbers: ER10-794-002.

Applicants: Entergy Services, Inc.

Description: Entergy Services, Inc submits clean copy of the sub, Entergy open access transmission tariff sheets.

Filed Date: 05/24/2010.

Accession Number: 20100525-0203.

Comment Date: 5 p.m. Eastern Time on Monday, June 14, 2010.

Docket Numbers: ER10-892-000; ER10-892-001.

Applicants: Southern Turner Cimarron I, LLC.

Description: Amendment to Application of Southern Turner Cimarron LLC.

Filed Date: 05/20/2010.

Accession Number: 20100520-5128.

Comment Date: 5 p.m. Eastern Time on Thursday, June 3, 2010.

Docket Numbers: ER10-1297-000.

Applicants: Tampa Electric Company.

Description: Filing by Tampa Electric Company of Service Agreement under cost-based power sales tariff re Tampa Electric Company.

Filed Date: 05/21/2010.

Accession Number: 20100524-0209.

Comment Date: 5 p.m. Eastern Time on Friday, June 11, 2010.

Docket Numbers: ER10-1298-000.

Applicants: Southwestern Electric Power Company.

Description: Southwestern Electric Power Company submits Commission review actuarial reports with respect to actual post-employment benefits etc.

Filed Date: 05/24/2010.

Accession Number: 20100524-0215.

Comment Date: 5 p.m. Eastern Time on Monday, June 14, 2010.

Docket Numbers: ER10-1299-000.

Applicants: Westar Energy, Inc.

Description: Westar Energy, Inc submits the Interconnection and Balancing Area Services Agreement with Midwest Energy, Inc to be effective 6/1/10.

Filed Date: 05/24/2010.

Accession Number: 20100524-0214.

Comment Date: 5 p.m. Eastern Time on Monday, June 14, 2010.

Docket Numbers: ER10-1300-000.

Applicants: Southwest Power Pool Inc.

Description: Southwest Power Pool, Inc submits Third Revised Sheet 186 et al. to FERC Electric Tariff, Fifth Revised Volume 1 to be effective 6/23/10.

Filed Date: 05/24/2010.

Accession Number: 20100524-0213.

Comment Date: 5 p.m. Eastern Time on Monday, June 14, 2010.

Docket Numbers: ER10-1301-000.

Applicants: Midwest Independent Transmission System Operator, Inc.

Description: Midwest Independent Transmission System Operator, Inc submits Notice of Cancellation of the Adjacent Balancing Authority Coordination Agreement.

Filed Date: 05/24/2010.

Accession Number: 20100525-0202.

Comment Date: 5 p.m. Eastern Time on Monday, June 14, 2010.

Docket Numbers: ER10-1302-000.

Applicants: Central Hudson Gas & Electric Corporation.

Description: Central Hudson Gas & Electric Corporation submits filing to cancel its Open Access Transmission Tariff, FERC Electric Tariff, Original Volume 2.

Filed Date: 05/24/2010.

Accession Number: 20100525-0204.

Comment Date: 5 p.m. Eastern Time on Monday, June 14, 2010.

Docket Numbers: ER10-1303-000.

Applicants: Genesee Power Station Limited Partnership.

Description: Genesee Power Station Limited Partnership submits tariff filing per 35.12: Genesee Power Station LP FERC Schedule No 1 Electric Tariff to be effective 5/26/2010.

Filed Date: 05/25/2010.

Accession Number: 20100525-5018

Comment Date: 5 p.m. Eastern Time on Tuesday, June 15, 2010.

Docket Numbers: ER10-1304-000.

Applicants: DownEast Power Company, LLC.

Description: DownEast Power Company, LLC submits tariff filing per 35.12: Baseline eTariff Filing Pursuant to Order No. 714 to be effective 6/1/2009.

Filed Date: 05/25/2010.

Accession Number: 20100525-5033.

Comment Date: 5 p.m. Eastern Time on Tuesday, June 15, 2010.

Take notice that the Commission received the following electric securities filings:

Docket Numbers: ES10-45-000.

Applicants: MDU Resources Group, Inc.

Description: Application of MDU Resources Group, Inc. for authority to Issue.

Filed Date: 05/24/2010.

Accession Number: 20100524-5141.

Comment Date: 5 p.m. Eastern Time on Monday, June 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-13171 Filed 6-1-10; 8:45 am]

BILLING CODE 6717-01-P